DEPARTMENT OF TRANSPORTATION

Federal Aviation Administration

14 CFR Part 71

[Airspace Docket No. 02-ACE-5]

Amendment to Class E Airspace; Fremont, NE

AGENCY: Federal Aviation Administration, DOT.

ACTION: Direct final rule; correction; and confirmation of effective date.

SUMMARY: This document contains a correction to a direct final rule and confirms the effective date of the direct final rule which revises Class E airspace at Fremont, NE.

EFFECTIVE DATE: 0901 UTC, October 3, 2002.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION: The FAA published this direct final rule with a request for comments in the Federal Register on May 30, 2002 (67 FR 37667-37669). The FAA uses the direct final rulemaking procedure for a non-controversial rule where the FAA believes that there will be no adverse public comment. This direct final rule advised the public that no adverse comments were anticipated, and that unless a written adverse comment, or a written notice of intent to submit such an adverse comment, were received within the comment period, the regulation would become effective on October 3, 2002. No adverse comments were received, and thus this document confirms that this direct final rule became effective on that date.

Correction

In rule document 02-13549 beginning on page 37667 in the issue of Thursday, May 30, 2002, make the following correction:

§ 71.1 [Corrected]

On page 37669, in the first line of the first column, in § 71.1, “lat 41° 27′ 02″N.” should read “lat. 41°27′01″N.”

Issued in Kansas City, MO on November 21, 2002.
Herman J. Lyons, Jr.,
Manager, Air Traffic Division, Central Region.

[FR Doc. 02-30849 Filed 12-4-02; 8:45 am]

BILLING CODE 4910-13-M